FEDERAL ELECTION COMMISSION

Sunshine Act Meeting

TIME AND DATE: Thursday, January 27, 2022 at 10:00 a.m.

PLACE: Virtual Meeting. Note: Because of the COVID-19 pandemic, we will conduct the open meeting virtually. If you would like to access the meeting, see the instructions below.

STATUS: This meeting will be open to the public. To access the virtual meeting, go to the Commission's website www.fec.gov and click on the banner to be taken to the meeting page.

MATTERS TO BE CONSIDERED:

Draft Advisory Opinion 2021-13: Matthew P. Hoh

Proposed Rule of Agency Procedure Concerning Foreign State Respondents

Audit Division Recommendation Memorandum on the Connecticut Democratic State Central Committee (A19-19)

Proposed Final Audit Report on the Republican Party of Minnesota—Federal (A19-09)

Audit Division Recommendation Memorandum on the Democracy Engine, Inc., PAC (A19-18)

Management and Administrative Matters

CONTACT PERSON FOR MORE INFORMATION: Judith Ingram, Press Officer, telephone: (202) 694-1220.

Authority: Government in the Sunshine Act, 5 U.S.C. 552b.

Laura E. Sinram,
Acting Secretary and Clerk of the Commission.

[FR Doc. 2022-01435 Filed 1-20-22; 4:15 pm]

BILLING CODE 6715-01-P